DEPARTMENT OF TRANSPORTATION

Pipeline and Hazardous Materials Safety Administration

49 CFR Part 192

[Docket No. PHMSA-2011-0023; Amdt. No. 192-132]

RIN 2137-AF39

Pipeline Safety: Safety of Gas Transmission Pipelines: Repair Criteria, Integrity Management Improvements, Cathodic Protection, Management of Change, and Other Related Amendments

Correction

In Rule Document 2022-17031, appearing on pages 52224-52279, in the issue of Wednesday, August 24, 2022, make the following correction:

On page 52267, in the third column, paragraph “(2)(i)” is corrected to read as set forth below.

§ 192.3 Definitions. [Corrected]

* * * * *

(2)(i) If the length of the wrinkle bend cannot be reliably determined, then wrinkle bend means a bend in the pipe where (h/D)*100 exceeds 2 when S is less than 37,000 psi (255 MPa), where (h/D)*100 exceeds (47000—S)/10,000 +1 for psi [324—S)/69 +1 for MPa] when S is greater than 37,000 psi (255 MPa) but less than 47,000 psi (324 MPa), and where (h/D)*100 exceeds 1 when S is 47,000 psi (324 MPa) or more.

* * * * *

[FR Doc. C1-2022-17031 Filed 10-24-22; 8:45 am]

BILLING CODE 0099-10-P